DEPARTMENT OF ENERGY

Federal Energy Regulatory Commission

Combined Notice of Filings #1

Take notice that the Commission received the following electric corporate filings:

Docket Numbers: EC20-54-000.

Applicants: Mankato Energy Center, LLC, SWG Minnesota Holdings, LLC, Mankato Energy Center II, LLC.

Description: Application for Authorization Under Section 203 of the Federal Power Act, et al. of Mankato Energy Center, LLC, et al.

Filed Date: 4/21/20.

Accession Number: 20200421-5246.

Comments Due: 5 p.m. ET 5/12/20.

Take notice that the Commission received the following exempt wholesale generator filings:

Docket Numbers: EG20-129-000.

Applicants: Bighorn Solar 1, LLC.

Description: Bighorn Solar 1, LLC, Notice of Self-Certification of Exempt Wholesale Generator Status.

Filed Date: 4/22/20.

Accession Number: 20200422-5092.

Comments Due: 5 p.m. ET 5/13/20.

Take notice that the Commission received the following electric rate filings:

Docket Numbers: ER19-2224-002.

Applicants: Turtle Creek Wind Farm LLC.

Description: Compliance filing: Turtle Creek Wind Farm LLC, Docket No. ER19-2224-002 to be effective 9/1/2019.

Filed Date: 4/21/20.

Accession Number: 20200421-5243.

Comments Due: 5 p.m. ET 5/12/20.

Docket Numbers: ER20-1626-000.

Applicants: New England Power Company.

Description: § 205(d) Rate Filing: Sch. 20A Service Agmt with Brookfield Renewable Trading and Marketing LP to be effective 9/1/2020.

Filed Date: 4/21/20.

Accession Number: 20200421-5168.

Comments Due: 5 p.m. ET 5/12/20.

Docket Numbers: ER20-1627-000.

Applicants: Basin Electric Power Cooperative, Inc.

Description: Notice of cancellation of Open Access Transmission Tariff, et al of Basin Electric Power Cooperative.

Filed Date: 4/21/20.

Accession Number: 20200421-5250.

Comments Due: 5 p.m. ET 5/12/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2020.
Nathaniel J. Davis, Sr.,
Deputy Secretary.

[FR Doc. 2020-08986 Filed 4-27-20; 8:45 am]

BILLING CODE 6717-01-P